LEGAL SERVICES CORPORATION

45 CFR Parts 1606 and 1623

Termination, Limited Reductions in Funding, and Debarment Procedures; Recompetition; Suspension Procedures

AGENCY: Legal Services Corporation.

ACTION: Notice of Rulemaking Workshop and Request for Expressions of Interest in Participation in Workshop.

SUMMARY: LSC is conducting a Rulemaking Workshop in connection with its rulemaking to consider revisions to its regulations on termination and suspension. LSC hereby solicits expressions of interest in participation in the Workshop from the regulated community, its clients, advocates, the organized bar and other interested parties.

DATES: Expressions of interest must be received by May 23, 2008.

FOR FURTHER INFORMATION CONTACT: Victor M. Fortuno, Vice President & General Counsel, Legal Services Corporation, 3333 K St., NW., Washington, DC 20007; (202) 295-1620 (phone); 202-337-6831 (fax) or vfortuno@lsc.gov.

SUPPLEMENTARY INFORMATION: The Legal Services Corporation (“LSC”) has initiated a rulemaking to consider revisions to 45 CFR Part 1606, Termination and Debarment Procedures; Recompetition, and 45 CFR Part 1623, Suspension. As part of this rulemaking proceeding, LSC is convening a Rulemaking Workshop on June 17, 2008 from 9 a.m.-5 p.m, EDT. The Rulemaking Workshop will be held in LSC's Conference Center, on the 3rd floor of 3333 K St., NW., Washington, DC 20007.

Under the LSC Rulemaking Protocol:

Rulemaking Workshops [enable LSC staff to meet with stakeholders] to discuss, but not negotiate, LSC rules and regulations. * * * The Workshop will be a meeting at which the participants hold open discussions designed to elicit information about problems or concerns with the regulation (or certain aspects thereof) and provide an opportunity for sharing ideas regarding how to address those issues. The Workshop is not intended [to] develop detailed alternatives or to obtain consensus on regulatory proposals.

67 FR 69762, 69763 (November 19, 2002).

With this notice, LSC is inviting expressions of interest from the interested stakeholder community to participate in the Rulemaking Workshop. Expressions of interest should be forwarded in writing to Victor M. Fortuno, Vice President & General Counsel, Legal Services Corporation, via e-mail to vfortuno@lsc.gov or via fax to 202-337-6831. Such expressions of interest may be alternatively by sent via hard copy to 3333 K Street, NW., Washington, DC 20007. All expressions of interest must be received by 5:30 p.m. E.D.T. on May 23, 2008. LSC will select participants shortly thereafter and will inform all those who expressed interest of whether or not they have been selected.

The Workshops will be open to public observation but only persons selected will be allowed to participate. Participants are expected to cover their own expenses (travel, lodging, etc.). LSC may consider providing financial assistance to participants for whom travel costs would represent a significant hardship and barrier to participation. Any such person should so note in his/her expression of interest for LSC's consideration.

Victor M. Fortuno,
Vice President & General Counsel.

[FR Doc. E8-10563 Filed 5-12-08; 8:45 am]

BILLING CODE 7050-01-P